DEPARTMENT OF COMMERCE

National Oceanic and Atmospheric Administration

50 CFR Part 300

[Docket No. 030124019-3040-02; I.D. 073003C]

Pacific Halibut Fisheries; Oregon Sport Fisheries

AGENCY: National Marine Fisheries Service (NMFS), National Oceanic and Atmospheric Administration (NOAA), Commerce.

ACTION: Inseason action; request for comments.

SUMMARY: NMFS announces changes to the regulations for the Area 2A sport halibut fisheries off the central coast of Oregon. This action would make additional potential season reopening dates available to halibut fishing in the Oregon central coast recreational fishing subarea. The purpose of this action is to allow increased access to Oregon's central coast recreational halibut quota.

DATES: Effective 0001 local time August 14, 2003, through the 2004 specifications and management measures which will publish in a later Federal Register document. Comments on this rule will be accepted through August 29, 2003.

ADDRESSES: Submit comments to D. Robert Lohn, Regional Administrator, Northwest Region, NMFS, 7600 Sand Point Way NE, Seattle, WA 98115-0070. This Federal Register document is available on the Government Printing Office's website at: http://www.access.gpo.gov/su_docs/aces/aces140.html.

FOR FURTHER INFORMATION CONTACT: Jamie Goen or Yvonne deReynier (NMFS, Northwest Region) 206-526-6140.

SUPPLEMENTARY INFORMATION: The Area 2A Catch Sharing Plan for Pacific halibut off Washington, Oregon, and California is implemented in the annual management measures for the Pacific halibut fisheries published on March 7, 2003 (68 FR 10989), as amended at 68 FR 14167, March 24, 2003, at 68 FR 22323, April 28, 2003, at 68 FR 23901, May 6, 2003 and at 68 FR 39024, July 1, 2003. Those regulations established the 2003 area quota for the central coast of Oregon (Cape Falcon, OR to Humbug Mountain, OR) all-depth fishery of 229,103 lb (103.9 mt) and the related management measures. The third all-depth sport fishery season in this area, both north central and south central sub-areas, is scheduled to be open 2 days per week (Friday and Saturday) on previously announced specific dates, and the nearshore fishery (inside 30-fathoms) is scheduled for 7 days per week.

The pace of the all-depth halibut fishery has been slow off the Oregon central coast in recent years. Oregon Department of Fish and Wildlife (ODFW), the agency that directly monitors the sport halibut fishery off Oregon's coast, reports sport halibut catch in the 2003 fishery, as of June 22, 2003, to have 114,815 lb (52.1 mt) of quota remaining out of a 229,103 lb (103.9 mt) quota for the Oregon central coast fishery (combined all-depth: north central Oregon and south central Oregon, May and August). This fishery is scheduled to be open on August 1, 2, 8 and 9, and if quota remains, on one or more of the following dates: August 22 and 23, September 5, 6, 19 and 20, October 17 and 18. In order to increase opportunity for participation in sport halibut fisheries in the Oregon central coast subarea, ODFW recommended to NMFS and the International Pacific Halibut Commission (IPHC) that additional potential season reopening dates be available for the all-depth fishery. If quota remains after the previously scheduled August 1, 2, 8 and 9 opening, this change would increase the days available that a vessel could fish for halibut in the all-depth area. The additional potential reopening dates announced in this document allows flexibility in scheduling the remainder of the season and increased opportunity to attain the 2003 sport halibut quota for this subarea. ODFW hopes that by adding potential reopening dates, anglers will be able to access the full halibut quota for this subarea and not leave quota remaining, as in 2002, where about 50,000 lb (22.7 mt) of combined central coast quota remained.

Section 25 of the 2003 Pacific halibut regulations provides NMFS with the authority to make certain inseason management changes, provided that the action is necessary to allow allocation objectives to be met, and that the action will not result in exceeding the catch limit for the area. The Catch Sharing Plan's structuring objective for the Oregon north central coast area is to provide two periods of fishing opportunity in Spring and in Summer in productive deeper water areas along the coast, principally for charterboat and larger private boat anglers, and provide a period of fishing opportunity in the summer for nearshore waters for small boat anglers. The Catch Sharing Plan's structuring objective for the Oregon south central coast area is to create a south coast management zone that has the same objectives as the Oregon central coast subarea and is designed to accommodate the needs of both charterboat and private boat anglers in the south coast subarea where weather and bar crossing conditions very often do not allow scheduled fishing trips.

In consultation with the ODFW and the IPHC, NMFS has determined that allowing the following additional potential reopening dates to sport halibut fishing in the Oregon central coast all-depth subarea: August 29 and 30, September 12, 13, 26, and 27, and October 3, 4, 10, and 11, meets the Catch Sharing Plan's objectives. Additionally, this action is not expected to result in bycatch of overfished groundfish species above the set asides for Oregon sport fisheries in 2003, particularly the 3.7 mt set aside for yelloweye rockfish.

NMFS Action

For the reasons stated above, NMFS announces the following change to the 2003 annual management measures (68 FR 10989, March 7, 2003, as amended at 68 FR 22323, April 28, 2003, at 68 FR 23901, May 6, 2003 and at 68 FR 39024, July 1, 2003) to read as follows:

1. On page 10999, in the third column, in section 24. Sport Fishing for Halibut, paragraph (4)(b)(v)(A)(3) in the third column is revised to read as follows:

24. Sport Fishing for Halibut

* * * * *

(3) If sufficient unharvested catch remains, the third season will open on August 1, 2, 8, and 9 or until the combined quotas for the all-depth fisheries in the subareas described in paragraphs (v) and (vi) of this section totaling 229,103 lb (103.9 mt) are estimated to have been taken and the area is closed by the Commission, whichever is earlier. An announcement will be made on the NMFS hotline in mid-July as to whether the fishery will be open on August 1, 2, 8, and 9. No halibut fishing will be allowed on these dates unless the dates are announced on the NMFS hotline. If the harvest during this opening does not achieve the 229,103 lb (103.9 mt) quota, the season will reopen. Dependent on the amount of unharvested catch available, the potential season reopening dates will be: August 22, 23, 29 and 30, September 5, 6, 12, 13, 19, 20, 26 and 27, October 3, 4, 10, 11, 17 and 18. If a decision is made inseason to allow fishing on one or more of these reopening dates, notice of the reopening date will be announced on the NMFS hotline (206) 526-6667 or (800) 662-9825. No halibut fishing will be allowed on the reopening dates unless the date is announced on the NMFS hotline.

* * * * *

2. On page 11000, in the first column, in section 24. Sport Fishing for Halibut, paragraph (4)(b)(vi)(A)(3)is revised to read as follows:

24. Sport Fishing for Halibut

* * * * *

(3) If sufficient unharvested catch remains, the third season will open on August 1, 2, 8, and 9 or until the combined quotas for the all-depth fisheries in the subareas described in paragraphs (v) and (vi) of this section totaling 229,103 lb (103.9 mt) are estimated to have been taken and the area is closed by the Commission, whichever is earlier. An announcement will be made on the NMFS hotline in mid-July as to whether the fishery will be open on August 1, 2, 8, and 9. No halibut fishing will be allowed on these dates unless the dates are announced on the NMFS hotline. If the harvest during this opening does not achieve the 229,103 lb (103.9 mt) quota, the season will reopen. Dependent on the amount of unharvested catch available, the potential season reopening dates will be: August 22, 23, 29 and 30, September 5, 6, 12, 13, 19, 20, 26 and 27, October 3, 4, 10, 11, 17 and 18. If a decision is made inseason to allow fishing on one or more of these reopening dates, notice of the reopening date will be announced on the NMFS hotline (206) 526-6667 or (800) 662-9825. No halibut fishing will be allowed on the reopening dates unless the date is announced on the NMFS hotline.

* * * * *

Classification

This action is authorized by the regulations implementing the Catch Sharing Plan. The determination to take these actions is based on the most recent data available. The Assistant Administrator for Fisheries, NOAA (AA), has determined that good cause exists for this document to be published without affording a prior opportunity for public comment under 5 U.S.C. 553(b)(3)(B) because doing so would be impracticable. Providing prior notice and opportunity for public comment would be impracticable because it might prevent fishers from achieving their recreational harvest opportunity for halibut within this subarea's quota for the season. NMFS has concluded, based on the slow rate of catch of halibut in Oregon's central coast recreational fishery in 2003, fishers may not have an opportunity to harvest the 2003 quota if they are limited to the season open dates established pre-season. Thus, potential season reopening dates are announced in this action for the Oregon central coast all-depth sport halibut fishery. The additional potential reopening dates are intended to allow anglers an opportunity to attain the Oregon central coast halibut quota for 2003 and flexibility in scheduling openings for any or all of those dates. However, there was not sufficient time between getting the information on the slow season catch for 2003 and the additional reopening dates to afford the public prior notice and opportunity for comment. NMFS received the information on June 27, 2003. The first new reopening date is August 29, 2003. NMFS needed time to write and review the changes to the regulations. In addition, this action relieves a restriction by providing additional opportunity for anglers to harvest halibut if sufficient quota remains. If there are no additional reopening dates added to the season, anglers may be restricted by not being able to harvest the full halibut quota for 2003. For the above reasons and because this action relieves a restriction, the AA has also determined that good cause exists to waive the delay of effectiveness of this action under 5 U.S.C. 553(d)(1) and (d)(3).

Public comments will be received for a period of 15 days after the effectiveness of this action. This action is authorized by Section 25 of the annual management measures for Pacific halibut fisheries published on March 7, 2003 (68 FR 10989), and has been determined to be not significant for purposes of Executive Order 12866.

Authority: 16 U.S.C. 773-773k.

Dated: August 8, 2003.
Bruce C. Morehead,
Acting Director, Office of Sustainable Fisheries, National Marine Fisheries Service.

[FR Doc. 03-20680 Filed 8-13-03; 8:45 am]

BILLING CODE 3510-22-S